DEPARTMENT OF THE INTERIOR

Bureau of Land Management

[NM-070-1430-ET; NMNM 6337]

Public Land Order No. 7579; Partial Revocation of Public Land Order No. 2198; NM

AGENCY: Bureau of Land Management, Interior.

ACTION: Public land order.

SUMMARY: This order revokes a public land order insofar as it affects approximately 1,433 acres of lands withdrawn for use by the Bureau of Indian Affairs. This order opens the lands to surface entry, mining, and mineral leasing.

EFFECTIVE DATE: September 15, 2003.

FOR FURTHER INFORMATION CONTACT: Albert Gonzales, BLM Farmington Field Office, 1235 La Plata Highway, Farmington, NM 87401, 505-599-6334.

SUPPLEMENTARY INFORMATION: The partial revocation will facilitate an administrative boundary adjustment between the Bureau of Land Management and the Navajo Indian Reservation.

Order

By virtue of the authority vested in the Secretary of the Interior by Section 204 of the Federal Land Policy and Management Act of 1976, 43 U.S.C. 1714 (1994), it is ordered as follows:

1. Public Land Order No. 2198, which withdrew lands for use by the Bureau of Indian Affairs, is hereby revoked insofar as it affects the following described lands:

New Mexico Principal Meridian

T. 19 N., R. 7 W.,

sec. 17, S½;

sec. 19;

sec. 21, N½, and SW¼.

The areas described aggregate approximately 1,433 acres in McKinley County.

2. At 10 a.m. on September 15, 2003, the lands will be opened to the operation of the public land laws generally, subject to valid existing rights, the provisions of existing withdrawals, other segregations of record, and the requirements of applicable law. All valid applications received at or prior to 10 a.m. on September 15, 2003, shall be considered as simultaneously filed at that time. Those received thereafter shall be considered in the order of filing.

3. At 10 a.m. on September 15, 2003, the lands will be opened to location and entry under the United States mining laws and to the operation of the mineral leasing laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determination in local courts.

Dated: July 25, 2003.
Rebecca W. Watson,
Assistant Secretary—Land and Minerals Management.

[FR Doc. 03-20743 Filed 8-13-03; 8:45 am]

BILLING CODE 4310-VB-P